DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 14, 2022.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on August 9, 2022.
Donald P. Burger,
Chief, General Approvals and Permits Branch.

Application No. | Applicant | Regulation(s) affected | Nature of the special permits thereof
Special Permits Data
21407-N | Toyota Motor Corporation | 173.185(a)(1) | To authorize the transportation in commerce of prototype lithium batteries via cargo-only aircraft. (mode 4).
21408-N | GFS Chemicals, Inc | 173.158(f)(3) | To authorize the transportation in commerce of UN 4G specification packagings for the transport of nitric acid where the primary receptacles are not individually overpacked in tightly closed metal packagings. (modes 1, 3).
21409-N | Evonik Corporation | 172.407(c)(1) | To authorize the transportation in commerce of certain oxidizers where the labels are less than 100 mm by 100mm. (modes 1, 3).
21411-N | Thales Alenia Space | 172.101(j), 172.300, 173.301(f), 173.302a(a)(1), 173.304a(a)(2), 173.185(a)(1) | To authorize he transportation in commerce of prototype and low production lithium ion batteries and certain Division 2.2 liquefied and compressed gases in non-spec packaging (spacecraft). (modes 1, 3, 4).
21412-N | Transport Logistics International, Inc | 173.420(a)(2), 173.420(a)(3)(i), 173.163 | To authorize the transportation in commerce of uranium hexafluoride in packagings not meeting the requirements of ANSI N14.1. (mode 1).
21413-N | Western International Gas & Cylinders, Inc | 171.12, 173.303(a), 180.205 | To authorize the transportation in commerce of acetylene contained in Transport Canada cylinders not authorized for transport within the United States, per 49 CFR 171.12. (mode 1).
21414-N | Zero Motorcycles Inc | 172.101(j) | To authorize the transportation in commerce of lithium batteries exceeding 35 kg by cargo-only aircraft. (mode 4).
21415-N | Thales Alenia Space |  | To authorize the transportation in commerce of certain Division 2.2 and 2.3 gases in non-DOT specification cylinders. (modes 1, 3, 4).
21416-N | Paradoxical Holdings, LLC | 171.2(k), 172.200, 172.300, 172.400, 172.500, 172.600, 172.700(a) | To authorize the transportation in commerce of certain DOT 3AL, TC/3ALM and UN ISO 7866 cylinders that contain carbon dioxide, with alternative hazard communication. (modes 1, 2, 3).
21417-N | Sodastream USA, Inc | 178.70(e) | To authorize the manufacture, mark, sale, and use of UN specification cylinders for which an Independent Inspection Agency has not witnessed all tests and inspections. (modes 1, 2, 3).
21418-N | Kronebusch Industries LLC | 178.33a-1 | To authorize the transportation in commerce of fire extinguishers where the pressure receptacle does not conform to 49 CFR 173.309. (modes 1, 2).
21419-N | Space Exploration Technologies Corp | 172.300, 172.400, 173.302a | To authorize the transportation in commerce of spacecraft and spacecraft components containing non-DOT specification cylinder which are not marked and labeled in accordance with Part 172. (mode 3).

[FR Doc. 2022-17499 Filed 8-12-22; 8:45 am]

BILLING CODE 4909-60-P